DEPARTMENT OF HOMELAND SECURITY

Coast Guard

[Docket No. USCG-2016-0291]

Cooperative Research and Development Agreement: Troposcatter Communications Exploratory Development

AGENCY: Coast Guard, DHS.

ACTION: Notice of intent; request for comments.

SUMMARY: The Coast Guard announces its intent to enter into a Cooperative Research and Development Agreement (CRADA) with Comtech Systems, Inc., to investigate the potential operational use of troposcatter technology. The research includes employment of their Modular Transportable Transmission System (MTTS) in northern Alaska to establish beyond line of sight (BLOS) network links without using existing infrastructure or satellite communications. Specifically, the MTTS will provide a wireless IEEE 802.3 (Ethernet) data link between two locations separated by long distances and elevated terrain. The MTTS will be setup in locations with no shelter/protection from the Northern Alaskan environment. A Pilot Demonstration schedule has been proposed in which Comtech Systems will provide their MTTS to connect two points separated by 68 miles with a 3000 foot elevation in between. The Coast Guard Research and Development Center (R&D Center) will prepare a Pilot Demonstration Assessment Plan and Comtech Systems will operate the equipment for exploratory development over a one week period to collect information on suitability, reliability, maintenance requirements, and ease of use. While the Coast Guard is currently considering partnering with Comtech Systems, Inc., the agency is soliciting public comment on the possible nature of and participation of other parties in the proposed CRADA. In addition, the Coast Guard also invites other potential non-Federal participants to propose similar CRADAs.

DATES: Comments must be submitted to the online docket via http://www.regulations.gov, or reach the Docket Management Facility, on or before May 19, 2016.

Synopses of proposals regarding future CRADAs must reach the Coast Guard (see FOR FURTHER INFORMATION CONTACT) on or before May 19, 2016.

ADDRESSES: Submit comments online at http://www.regulations.gov in accordance with Web site instructions.

FOR FURTHER INFORMATION CONTACT: If you have questions on this notice or wish to submit proposals for future CRADAs, contact LCDR Samuel Nassar, Project Official, C4ISR Branch, U.S. Coast Guard Research and Development Center, 1 Chelsea Street, New London, CT 06320, telephone 860-271-2727, email samuel.r.nassar@uscg.mil.

SUPPLEMENTARY INFORMATION:

Public Participation and Request for Comments

We request public comments on this notice. Although we do not plan to respond to comments in the Federal Register, we will respond directly to commenters and may modify our proposal in light of comments.

Comments should be marked with docket number USCG-2016-0291and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008). We also accept anonymous comments.

We encourage you to submit comments through the Federal eRulemaking Portal at http://www.regulations.gov. If your material cannot be submitted using http://www.regulations.gov, contact the Coast Guard (see FOR FURTHER INFORMATION CONTACT). Documents mentioned in this notice and all public comments, are in our online docket at http://www.regulations.gov and can be viewed by following that Web site's instructions. Additionally, if you go to the online docket and sign up for email alerts, you will be notified when comments are posted or a final rule is published.

Do not submit detailed proposals for future CRADAs to the Docket Management Facility. Instead, submit them directly to the Coast Guard (see FOR FURTHER INFORMATION CONTACT).

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other type of agreements.

Under the proposed CRADA, the R&D Center will collaborate with one non-Federal participant. Together, the R&D Center and the non-Federal participant will collect information/data for performance, reliability, maintenance requirements, human systems integration and other data on Troposcatter communications technologies. After an initial installation and training, the Coast Guard plans to evaluate designated platforms outfitted with the communications technologies for a period of one week.

We anticipate the Coast Guard's contributions under the proposed CRADA will include the following:

(1) Develop the Demonstration Pilot Assessment Plan to meet the objectives of the CRADA with a diverse set of real-life mission scenarios.

(2) Provide the pilot demonstration support in and around Nome, AK.

(3) Coordinate Pilot demonstration network connectivity between various internet protocol (IP) systems.

(4) Collaborate with non-Federal partners to prepare demonstration documentation including equipment assessments, final report(s), and briefings.

We anticipate that the non-Federal participant's contributions under the proposed CRADA will include the following:

(1) Assist the R&D Center in the development and drafting of all CRADA documents, including the pilot demonstration assessment plan, equipment assessments, final report(s), and briefings.

(2) Provide and maintain the troposcatter communications equipment to ensure the communications link is usable.

(3) Secure, with R&D Center assistance, Special Temporary Authority (STA) to employ the equipment within the desired frequency bands.

(4) Provide technical support, training and maintenance throughout the period of performance to ensure maximum availability and utility of the networks.

The Coast Guard reserves the right to select for CRADA participants all, some, or no proposals submitted for this CRADA. The Coast Guard will provide no funding for reimbursement of proposal development costs. Proposals and any other material submitted in response to this notice will not be returned. Proposals submitted are expected to be unclassified and have no more than five single-sided pages (excluding cover page, DD 1494, JF-12, etc.). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering Comtech Systems, Inc. for participation in this CRADA. This consideration is based on the fact that Comtech Systems has demonstrated its technical ability as the developer, manufacturer, and integrator of troposcatter transmission equipment. However, we do not wish to exclude other viable participants from this or future similar CRADAs.

This is a technology assessment effort. The goal for the Coast Guard of this CRADA is to better understand the advantages, disadvantages, required technology enhancements, performance, costs, and other issues associated with troposcatter transmission. Special consideration will be given to small business firms/consortia, and preference will be given to business units located in the U.S. This notice is issued under the authority of 5 U.S.C. 552(a).

Dated: March 24, 2016.
Captain Dennis C. Evans,
USCG, Commanding Officer, U.S. Coast Guard Research and Development Center.

[FR Doc. 2016-09034 Filed 4-18-16; 8:45 am]

BILLING CODE 9110-04-P